DEPARTMENT OF THE TREASURY

Office of Foreign Assets Control

Sanctions Actions Pursuant to Executive Order 13224

AGENCY: Office of Foreign Assets Control, Treasury.

ACTION: Notice.

SUMMARY: The Department of the Treasury's Office of Foreign Assets Control (OFAC) is publishing the names of 4 individuals whose property and interests in property are blocked pursuant to Executive Order 13224 of September 23, 2001, “Blocking Property and Prohibiting Transactions With Persons Who Commit, Threaten To Commit, or Support Terrorism.”

DATES: OFAC's actions described in this notice were effective on January 10, 2017.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic Availability

The SDN List and additional information concerning OFAC sanctions programs are available from OFAC's Web site (www.treas.gov/ofac).

Notice of OFAC Actions

On January 10, 2017, OFAC blocked the property and interests in property of the following 4 individuals pursuant to E.O. 13224, “Blocking Property and Prohibiting Transactions With Persons Who Commit, Threaten To Commit, or Support Terrorism”:

Individuals

1. SHARROUF, Khaled (a.k.a. ZARQAWI AL AUSTR, Abu; a.k.a. ZARQAWI AUSTRALI, Abu; a.k.a. ZARQAWI, Abu), Syria; Iraq; DOB 23 Feb 1981; POB Auburn, New South Wales, Australia; nationality Australia; Gender Male; Passport L3135591 (Australia); alt. Passport L5210356 (Australia); alt. Passport N723649 (Australia); Driver's License No. 12789234 (Australia) (individual) [SDGT] (Linked To: ISLAMIC STATE OF IRAQ AND THE LEVANT).

2. PRAKASH, Neil Christopher (a.k.a. KHALED AL-CAMBODI, Abu), Syria; Iraq; DOB 07 May 1991; POB Melbourne, Australia; nationality Australia; Gender Male; Passport N4325853 (Australia) (individual) [SDGT] (Linked To: ISLAMIC STATE OF IRAQ AND THE LEVANT).

3. ROCHMAN, Oman (a.k.a. ABDULROHMAN, Oman; a.k.a. ABDURAHMAN, Aman; a.k.a. ABDURRACHMAN, Aman; a.k.a. ABDURRAHMAN AL-ARKHABILIY, Abu Sulaiman Aman; a.k.a. ABDURRAHMAN, Aman; a.k.a. ABDURRAHMAN, Oman; a.k.a. RAHMAN, Aman Abdul; a.k.a. RAHMAN, Oman), Pasir Putih Prison, Nusa Kambangan Island, Indonesia; DOB 05 Jan 1972; POB Sumedang, Indonesia; nationality Indonesia; Gender Male; Ustadz (individual) [SDGT] (Linked To: ISLAMIC STATE OF IRAQ AND THE LEVANT).

4. USMAN, Bachrumsyah Mennor (a.k.a. SYAH, Bahrum; a.k.a. “BACHRUMSHAH”; a.k.a. “BACHRUMSYAH”; a.k.a. “BAHRUMSYAH”; a.k.a. “IBRAHIM, Abu”; a.k.a. “MUHAMMAD AL-ANDUNISIY, Abu”; a.k.a. “MUHAMMAD AL-INDONESI, Abu”; a.k.a. “MUHAMMAD AL-INDUNISI, Abu”; a.k.a. “SHABRINA, Abu”), Raqqa, Syria; Al-Shadadi, Hasaka Province, Syria; DOB 23 Jul 1984; POB Bogor, Indonesia; nationality Indonesia; Gender Male; Passport A8329173 (Indonesia); Ustad (individual) [SDGT] (Linked To: ISLAMIC STATE OF IRAQ AND THE LEVANT).

Dated: January 10, 2017.
John E. Smith,
Acting Director, Office of Foreign Assets Control.

[FR Doc. 2017-00761 Filed 1-13-17; 8:45 am]

BILLING CODE 4810-AL-P